ENVIRONMENTAL PROTECTION AGENCY

40 CFR Part 52

[R05-OAR-2004-IN-0007;FRL-7875-3]

Approval and Promulgation of Air Quality Implementation Plans; Indiana

AGENCY: Environmental Protection Agency (EPA).

ACTION: Direct final rule.

SUMMARY: The EPA is approving revisions to the particulate matter (PM) and sulfur dioxide (SO2) emission requirements for Pfizer, Inc. (Pfizer). Pfizer operates a medicinal chemical manufacturing facility in Vigo County, Indiana. On October 7, 2004, Indiana submitted a request for PM and SO2 emissions limit revisions as an amendment to its State Implementation Plan (SIP) at the Vigo County facility. Pfizer has removed five boilers from its facility. Indiana has requested the deletion of the site-specific PM and SO2 emission limits for all five removed boilers. A new boiler has replaced three of the removed boilers. The new boiler is subject to the current New Source Performance Standard limits for PM and SO2 emissions. There will be no increase in PM or SO2 emissions as a result of the requested revisions.

DATES: This “direct final” rule is effective on April 29, 2005 unless EPA receives adverse written comments by March 30, 2005. If adverse comment is received, EPA will publish a timely withdrawal of the rule in the Federal Register and inform the public that the rule will not take effect.

ADDRESSES: Submit comments, identified by Regional Material in EDocket (RME) ID No. R05-OAR-2004-IN-0007, by one of the following methods:

Federal eRulemaking Portal: http://www.regulations.gov. Follow the on-line instructions for submitting comments.

Agency Web site: http://docket.epa.gov/rmepub/index.jsp. RME, EPA's electronic public docket and comments system, is EPA's preferred method for receiving comments. Once in the system, select “quick search,” then key in the appropriate RME Docket identification number. Follow the on-line instructions for submitting comments.

E-mail: mooney.john@epa.gov.

Fax: (312)886-5824.

Mail: You may send written comments to: John Mooney, Chief, Criteria Pollutant Section, (AR-18J), U.S. Environmental Protection Agency, 77 West Jackson Boulevard, Chicago, Illinois 60604.

Hand delivery: Deliver your comments to: John Mooney, Chief, Criteria Pollutant Section, (AR-18J), U.S. Environmental Protection Agency, Region 5, 77 West Jackson Boulevard, 18th floor, Chicago, Illinois 60604.

Such deliveries are only accepted during the Regional Office's normal hours of operation. The Regional Office's official hours of business are Monday through Friday, 8:30 a.m. to 4:30 p.m. excluding Federal holidays.

Instructions: Direct your comments to RME ID No. R05-OAR-2004-IN-0007. EPA's policy is that all comments received will be included in the public docket without change, including any personal information provided, unless the comment includes information claimed to be Confidential Business Information (CBI) or other information whose disclosure is restricted by statute. Do not submit information that you consider to be CBI or otherwise protected through RME, regulations.gov, or e-mail. The EPA RME website and the federal regulations.gov website are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of the related proposed rule which is published in the Proposed Rules section of this Federal Register. Docket: All documents in the electronic docket are listed in the RME index at http://docket.epa.gov/rmepub/. Although listed in the index, some information is not publicly available, i.e., CBI or other information whose disclosure is restricted by statute. Publicly available docket materials are available either electronically in RME or in hard copy at the U.S. Environmental Protection Agency, Region 5, Air and Radiation Division, 77 West Jackson Boulevard, Chicago, Illinois 60604. We recommend that you telephone Matt Rau, Environmental Engineer, at (312) 886-6524 before visiting the Region 5 office. This Facility is open from 8:30 a.m. to 4:30 p.m., Monday through Friday, excluding legal holidays.

FOR FURTHER INFORMATION CONTACT: Matt Rau, Environmental Engineer, Regulation Development Section, Air Programs Branch (AR-18J), U.S. Environmental Protection Agency, Region 5, 77 West Jackson Boulevard, Chicago, Illinois 60604, Telephone: (312) 886-6524, E-Mail: rau.matthew@epa.gov.

SUPPLEMENTARY INFORMATION: Throughout this document wherever “we,” “us,” or “our” are used we mean the EPA.

Table of Contents

I. General Information

A. Does This Action Apply to Me?

B. How Can I Get Copies of This Document and Other Related Information?

C. How and to Whom Do I Submit Comments?

II. What Is the EPA Approving?

III. What Are the Changes From the Current Rule?

IV. What Is the EPA's Analysis of the Requested Revisions?

V. What Are the Environmental Effects of These Actions?

VI. What Rulemaking Actions Are the EPA Taking?

VII. Administrative requirements

I. General Information

A. Does This Action Apply to Me?

This action applies to a single source, Pfizer, Inc., whose facility is located in Vigo County, Indiana.

B. How Can I Get Copies of This Document and Other Related Information?

1. The Regional Office has established an electronic public rulemaking file available for inspection at RME under ID No. R05-OAR-2004-IN-0007, and a hard copy file which is available for inspection at the Regional Office. The official public file consists of the documents specifically referenced in this action, any public comments received, and other information related to this action. Although it is a part of the official docket, the public rulemaking file does not include CBI or other information whose disclosure is restricted by statute. The official public rulemaking file is the collection of materials that is available for public viewing at the Air Programs Branch, Air and Radiation Division, EPA Region 5, 77 West Jackson Boulevard, Chicago, Illinois 60604. EPA requests that if at all possible, you contact the person listed in the FOR FURTHER INFORMATION CONTACT section to schedule your inspection. The Regional Office's official hours of business are Monday through Friday, 8:30 a.m. to 4:30 p.m. excluding Federal holidays.

2. Electronic Access. You may access this Federal Register document electronically through the regulations.gov web site located at http://www.regulations.gov where you can find, review, and submit comments on Federal rules that have been published in the Federal Register, the Government's legal newspaper, and are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

C. How and to Whom Do I Submit Comments?

You may submit comments electronically, by mail, or through hand delivery/courier. To ensure proper receipt by EPA, identify the appropriate rulemaking identification number by including the text “Public comment on proposed rulemaking Region 5 Air Docket R05-OAR-2004-IN-0007” in the subject line on the first page of your comment. Please ensure that your comments are submitted within the specified comment period. Comments received after the close of the comment period will be marked “late.” EPA is not required to consider these late comments.

For detailed instructions on submitting public comments and on what to consider as you prepare your comments see the ADDRESSES section and Section I of the SUPPLEMENTARY INFORMATION section of the related proposed rule which is published in the Proposed Rules section of this Federal Register.

II. What Is the EPA Approving?

EPA is approving the deletion of particulate and sulfur dioxide emissions limits for the removed boilers at the Pfizer facility. Three boilers, Boilers 5, 6, and 7, have been decommissioned and replaced with a new boiler, Boiler 9. Boiler D and the Animal Health Boiler have been taken out of service and not replaced. The source-specific PM emission limits in 326 Indiana Administrative Code (IAC) 6-1-13 for boilers 5, 6, 7, and D are being deleted. The Animal Health Boiler does not have a PM limit in 326 IAC 6-1-13. Similarly, the source-specific SO2 limits in 326 IAC 7-4-3 are being removed for boilers 5, 6, 7, and the Animal Health Boiler. No SO2 limit is given in 326 IAC 7-4-3 for Boiler D.

Indiana did not include any new limits in the requested SIP revision, as the new boiler will be subject to the state-wide limits already in place. These include the PM emission limit in 326 IAC 6-1-2, the SO2 emission limit in 326 IAC 7-1.1-2, and the New Source Performance Standards (NSPS) in 326 IAC Article 12 which incorporates by reference the applicable federal NSPS at 40 CFR Part 60, Subpart Dc.

III. What Are the Changes From the Current Rule?

This rule revision affects both particulate matter and sulfur dioxide limits. The specific PM limits eliminated by the State are of 57.2 tons per year (TPY) and 0.15 pounds per million British Thermal Units (lb/MMBTU) for Boiler 5, 92.0 TPY and 0.15 lb/MMBTU for Boilers 6 and 7 combined, and 7.9 TPY and 0.15 lb/MMBTU for Boiler D. The specific SO2 limits eliminated are 2.12 lb/MMBTU for Boilers 5, 6, and 7, and 1.55 lb/MMBTU for the Animal Health Boiler. The State deleted these emission limits because Pfizer has decommissioned the five boilers.

IV. What Is the EPA's Analysis of the Requested Revisions?

Indiana deleted the source-specific particulate matter and sulfur dioxide emission limits for five decommissioned boilers. A new boiler, Boiler 9, has replaced three of the removed boilers, Boilers 5, 6, and 7. It is subject to the PM limits of 326 IAC 6-1-2, the SO2 limits of 326 IAC 7-1.1-2, and the NSPS of 326 IAC Article 12. Indiana is not revising these state-wide limits. There will be no increase in particulate matter or sulfur dioxide emissions as a result of Pfizer's requested revisions. Therefore, EPA is approving the requested SIP revisions.

V. What Are the Environmental Effects of These Actions?

Particulate matter interferes with lung function when inhaled. Exposure to PM can cause heart and lung disease. PM also aggravates asthma. Airborne particulate is the main source of haze that causes a reduction in visibility. It also is deposited on the ground and in the water. This harms the environment by changing the nutrient and chemical balance.

Sulfur dioxide causes breathing difficulties and aggravation of existing cardiovascular disease. It is also a precursor of acid rain and fine particulate matter formation. Sulfur dioxide causes the loss of chloroform leading to vegetation damage.

The requested revisions will not cause an increase in emissions. The new boiler added to Pfizer's facility is subject to the NSPS for Small Industrial-Commercial-Institutional Steam Generating Units at 40 C.F.R. Part 60, Subpart Dc, which the State has incorporated by reference in 326 IAC Article 12.

VI. What Rulemaking Actions Are the EPA Taking?

The EPA is approving, through direct final rulemaking, revisions to PM and SO2 emission regulations for the Pfizer medicinal chemical manufacturing facility in Vigo County, Indiana. The revisions delete the source specific PM and SO2 emission limits on five boilers that have been removed. No increase in emissions is expected from the requested revisions.

We are publishing this action without a prior proposal because we view these as noncontroversial revisions and anticipate no adverse comments. However, in the “Proposed Rules” section of today's Federal Register, we are publishing a separate document that will serve as the proposal to approve the SIP revision if written adverse comments are filed. This rule will be effective on April 29, 2005 without further notice unless we receive relevant adverse written comment by March 30, 2005. If the EPA receives adverse written comment, we will publish a final rule informing the public that this rule will not take effect. We will address all public comments in a subsequent final rule based on the proposed rule. The EPA does not intend to institute a second comment period on this action. Any parties interested in commenting on these actions must do so at this time.

VII. Administrative Requirements

Executive Order 12866: Regulatory Planning and Review

Under Executive Order 12866 (58 FR 51735, October 4, 1993), this action is not a “significant regulatory action” and therefore is not subject to review by the Office of Management and Budget.

Executive Order 13211: Actions Concerning Regulations That Significantly Affect Energy Supply, Distribution, or Use

For this reason, this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: rules of particular applicability; rules relating to agency management or personnel; and rules of agency organization, procedure, or practice that do not substantially affect the rights or obligations of non agency parties. 5 U.S.C. 804(3). EPA is not required to submit a rule report regerding today's action under section 801 because this is a rule of particular applicability.

Under section 307(b)(1) of the Clean Air Act, petitions for judicial review of this action must be filed in the United States Court of Appeals for the appropriate circuit by April 29, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52:

Environmental protection, Air pollution control, Incorporation by reference, Intergovernmental relations, Particulate matter, Sulfur oxides.

Dated: February 10, 2005.
Norman Niedergang,
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart P—Indiana

2. Section 52.770 is amended by adding paragraph (c)(168) to read as follows:

§ 52.770 Identification of plan.

* * * * *

(c) * * *

(168) On October 7, 2004, Indiana submitted a request revision to particulate matter and sulfur dioxide emission limits as an amendment to its State Implementation Plan. The particulate matter and sulfur dioxide emission limits were deleted for the five boilers removed from the Pfizer, Incorporated facility in Vigo County, Indiana. These limits were listed in 326 Indiana Administrative Code (IAC) 6-1-13 and 326 IAC 7-4-3.

(i) Incorporation by reference. Indiana Administrative Code Title 326: Air Pollution Control Board, Article 6: Particulate Rules, Rule 1: County Specific Particulate Limitations, Section 13: Vigo County and Title 326: Air Pollution Control Board, Article 7: Sulfur Dioxide Rules, Rule 4: Emission Limitations and Requirements by County, Section 3: Vigo County Sulfur Dioxide Emission Limitations. Filed with the Secretary of State on August 31, 2004 and effective September 30, 2004. Published in 28 Indiana Register 115-18 on October 1, 2004.

[FR Doc. 05-3677 Filed 2-25-05; 8:45 am]

BILLING CODE 6560-50-P